DEPARTMENT OF ENERGY

Federal Energy Regulatory Commission

[Docket Nos. RP96-312-057 and GT01-34-000]

Tennessee Gas Pipeline Company; Notice of Negotiated Rate

September 28, 2001.

Take notice that on September 14, 2001, Tennessee Gas Pipeline Company (Tennessee), 9 E Greenway Plaza, Houston, Texas 77046, tendered for filing a Negotiated Rate Arrangement with AES Londonderry L.L.C. (AES) and an original and five (5) copies of Revised Tariff Sheet No. 413A for inclusion in Tennessee's FERC Gas Tariff, Fifth Revised Volume No. 1. Tennessee requests that the Commission approve the Negotiated Rate Arrangement and filed tariff sheet to become effective October 1, 2001.

Tennessee states that in orders issued on August 1, 2000 and October 27, 2000 in Tennessee Docket No. CP00-48-000, the Commission approved Tennessee's Negotiated Rate Arrangement with AES. In accordance with those Commission Orders, Tennessee is filing the negotiated rate arrangement. Tennessee is also submitting the referenced tariff sheet to list the FT-A Service agreement between it and AES as a non-conforming agreement as it contains a provision found previously by the Commission to “materially deviate” from Tennessee's pro forma FT-A Service Agreement.

Tennessee also requests that the Commission make a determination whether the Agency Authorization Agreement between Tennessee, AES and ABN AMRO Bank N.V., (Agency Agreement) constitutes a non-conforming service agreement. Tennessee states that the Agreement contains a provision for which Tennessee seeks a determination because it varies from the corresponding provisions in Tennessee's Pro Forma Agency Agreement. Section 4 of the Agency Agreement provides that the term of the agreement shall commence upon an event of default by AES as that term is defined in a separate agreement between AES and its lender. It also subjects AES' right to terminate the Agency Agreement to the lender's consent. Tennessee states that it does not consider the Agency Agreement to be non-conforming. Tennessee further states that in the event the Commission determines that the Agency Agreement “deviates in any material aspect” from Tennessee's Pro Forma Agency Agreement, Tennessee will, in a compliance filing, revise its FERC Gas Tariff to identify the Agency Authorization Agreement as a non-conforming service agreement.

Tennessee states that copies of the filing have been mailed to all affected customers and state regulatory commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-24895 Filed 10-3-01; 8:45 am]

BILLING CODE 6717-01-P